DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Survey of Uses of NOAA Ecological Forecasting Products in Western Lake Erie, the Gulf of Mexico, and Chesapeake Bay.

OMB Control Number: 0648-xxxx.

Form Number(s): None.

Type of Request: Regular (request for a new information collection).

Number of Respondents: 600.

Average Hours per Response: 15 minutes.

Burden Hours: 150.

Needs and Uses: This request is for a new information collection.

In recent years, harmful algal blooms (HABs) and waterborne pathogens such as Vibrio vulnificus have caused major health, ecological, and economic concerns. HABs and other waterborne pathogens can lead to a number of impacts including impaired drinking water, reduced recreational opportunities, and human health impacts from either ingesting affected fish/water or contact with the bloom. To better serve the public and its stakeholders, NOAA has developed forecasts of HABs extent and severity in the western Lake Erie and in the Gulf of Mexico and is finalizing development of a forecast for Vibrio vulnificus in Chesapeake Bay. These forecast products are designed to provide stakeholders and the public with information that can be used to make better decisions that would mitigate the impacts of HABs and waterborne pathogens.

This request is for a set of related surveys to collect information on how stakeholders use NOAA's ecological forecast products in western Lake Erie, the Gulf of Mexico (the western shore of Florida and the Texas coastline), and Chesapeake Bay. The surveys are designed to collect similar information from the public and other stakeholders across the three geographic regions covered by the forecast products. The information from these surveys will assist NOAA in understanding how stakeholders, including the public, would use the forecast products. This information will help NOAA further improve upon research, development, and delivery of forecast products nation-wide.

For western Lake Erie and the Gulf of Mexico, NOAA plans two related surveys in each region. First, NOAA will collect information from the public on how using the information in the forecast products would affect decisions related to fishing, swimming and boating. A companion survey would ask charter boat operators on Lake Erie how information in the forecast would affect their decisions regarding fishing operations. These activities (fishing, swimming and boating) reflect the types of activities likely to be affected by HABs in each area. Drinking water is also at risk in Lake Erie due to HABs, but NOAA has information on how drinking water facilities respond to HABS and is also discussing use of the forecast products with a small (fewer than 10) number of drinking water facilities.

For Chesapeake Bay, NOAA would implement one survey focused on recreational swimmers. The primary risk posed by Vibrio vulnificus is through contact with the bacterium; thus, NOAA determined that focusing on recreational swimmers use of the forecast product would be the most productive approach.

Affected Public: Individuals or households; business or other for-profit organizations.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 21, 2018.
Sarah Brabson,
NOAA PRA Clearance Officer.

[FR Doc. 2018-28356 Filed 12-31-18; 8:45 am]

BILLING CODE 3510-JE-P